ENVIRONMENTAL PROTECTION AGENCY

[FRL-7225-8]

Agency Information Collection Activities: Proposed Collection; Comment Request; General Administrative Requirements for Assistance Programs

AGENCY: Environmental Protection Agency (EPA).

ACTION: Notice.

SUMMARY: In compliance with the Paperwork Reduction Act (44 U.S.C. 3501 et seq.), this document announces that EPA is planning to submit the following proposed and/or continuing Information Collection Request (ICR) to the Office of Management and Budget (OMB): General Administrative Requirements for Assistance Programs, EPA ICR No. 0938.09, OMB Control No. 2030-0020, expiration December 31, 2002. Before submitting the ICR to OMB for review and approval, EPA is soliciting comments on specific aspects of the proposed information collection as described below.

DATES: Comments must be submitted on or before July 31, 2002.

ADDRESSES: Comments may be mailed to William G. Hedling, Office of Grants and Debarment, Grants Administration Division, U.S. EPA, Ronald Reagan Building, 1300 Pennsylvania Avenue, Washington, DC 2004, Mailstop 3903R, or E-mailed to Hedling.William@epa.gov, and refer to EPA ICR No. 0938.09.

FOR FURTHER INFORMATION CONTACT: William G. Hedling at (202) 564-5377, FAX at (202) 565-2468, or E-mail to Hedling.William@epa.gov.

SUPPLEMENTARY INFORMATION: Affected entities: Entities potentially affected by this action are those which apply for EPA assistance.

Title: General Administrative Requirements for Assistance Programs; OMB Control No. 2030-0020; EPA ICR No. 0938.09 expiring December 31, 2002.

Abstract: The information is collected from applicants/recipients of EPA assistance to monitor adherence to the programmatic and administrative requirements of the Agency's financial assistance program. It is used to make awards, pay recipients, and collect information on how Federal funds are being spent. EPA needs this information to meet its Federal stewardship responsibilities. This Information Collection Request (ICR) renewal requests authorization for the collection of information under EPA's General Regulation for Assistance programs, which establishes minimum management requirements for all recipients of EPA grants or cooperative agreements (assistance agreements). Recipients must respond to these information requests to obtain and/or retain a benefit (Federal funds). 40 CFR part 30, “Grants and Agreements with Institutions of Higher Education, Hospitals and Other Non-profit Organizations,” includes the management requirements for potential grantees from non-profit organizations. 40 CFR part 31, “Uniform Administrative Requirements for Grants and Cooperative Agreements to State and Local Governments,” includes the management responsibilities for potential state and local government grantees. These regulations include only those provisions mandated by statute, required by OMB Circulars, or added by EPA to ensure sound and effective financial assistance management. The OMB Form 83-I associated with this ICR combines all of these requirements under OMB Control Number 2030-0020. The information required by these regulations will be used by EPA award officials to make assistance awards and assistance payments and to verify that the recipient is using Federal funds appropriately to comply with OMB Circulars A-21, A-87, A-102, A-110, A-122, A-128, and A-133, which set forth the pre-award, post-award, and after-the-grant requirements. An agency may not conduct or sponsor, and a person is not required to respond to, a collection of information unless it displays a currently valid OMB control number. The OMB control numbers for EPA's regulations are listed in 40 CFR part 9 and 48 CFR chapter 15.

The EPA would like to solicit comments in order to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The annual record keeping burden for this collection is estimated to average 181 hours per application. The estimated annual number of respondents is approximately 4,000. The estimated total burden hours on respondents is 722,050 hours. The frequency of collection is as required. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: June 3, 2002.
Betty G. Utterback,
Acting Director, Grants Administration Division.

[FR Doc. 02-14480 Filed 6-7-02; 8:45 am]

BILLING CODE 6560-50-U